DEPARTMENT OF LABOR

Employment and Training Administration

[TA-W-50,117]

Flextronics International USA, Inc., Longmont, CO; Notice of Termination of Investigation

Pursuant to section 221 of the Trade Act of 1974, as amended, an investigation was initiated on November 19, 2002, in response to a worker petition filed on behalf of workers at Flextronics International USA, Inc., Longmont, Colorado.

The Department issued negative determinations applicable to the petitioning group of workers on August 28, 2002 (TA-W-41,700). No new information or change in circumstances is evident which would result in a reversal of the Department's previous determination. Consequently, further investigation would serve no purpose, and the investigation has been terminated.

Signed at Washington, DC, this 22nd day of November, 2002.
Linda G. Poole,
Certifying Officer, Division of Trade Adjustment Assistance.

[FR Doc. 02-31289 Filed 12-11-02; 8:45 am]

BILLING CODE 4510-30-P